FEDERAL RESERVE SYSTEM

Agency Information Collection Activities: Announcement of Board Approval Under Delegated Authority and Submission to OMB

AGENCY: Board of Governors of the Federal Reserve System.

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority the Extension for Three Years, With Revision, of the Following Reports

1. Report title: Reports of Condition for Foreign Subsidiaries of U.S. Banking Organizations.

Agency form number: FR 2314 a, b, and c.

OMB control number: 7100-0073.

Frequency: Quarterly and annually.

Reporters: Foreign subsidiaries of U.S. state member banks, bank holding companies, and Edge or agreement corporations.

Annual reporting hours: 8,222 hours.

Estimated average hours per response: 1.5 to 10.5 hours.

Number of respondents: 1,665.

Small businesses are not affected.

General description of report: This information collection is mandatory (12 U.S.C. 324, 602, 625, and 1844(c)) and the data are exempt from disclosure pursuant to sections (b)(4) and (b)(8) of the Freedom of Information Act (5 U.S.C. 552(b)(4) and (8)).

Abstract: The FR 2314 reports are mandatory and most are collected annually as of December 31 from foreign subsidiaries of U.S. state member banks, bank holding companies, and Edge or agreement corporations. For subsidiaries with significant asset size or volume of off-balance-sheet activity the FR 2314a is collected quarterly instead of annually. The information collected in these reports is essentially the equivalent to the information reported on the Consolidated Reports of Condition and Income that commercial banks file. The FR 2314 is a set of three graduated reports. The FR 2314a collects balance sheet information with accompanying memorandum items and twelve supporting schedules. The FR 2314b collects balance sheet information and only two supporting schedules. The FR 2314c is a one-page report that collects information on total assets, equity capital, net income, and off-balance-sheet items.

Current Actions: The Federal Reserve has approved the proposed changes to the FR 2314 as of June 30, 2001, consistent with the changes, eliminations, and reductions in detail to the Consolidated Reports of Condition and Income (Call Report) (FFIEC 031; OMB No. 7100-0036) effective March 31, 2001, and June 30, 2001.

2. Report title: The Consolidated Report of Condition and Income for Edge and Agreement Corporations.

Agency form number: FR 2886b.

OMB control number: 7100-0086.

Frequency: Quarterly.

Reporters: Banking Edge corporations and investment (nonbanking) Edge and agreement corporations.

Annual reporting hours: 3,566 hours.

Estimated average hours per response: 14.7 hours, banking corporations, 8.5 hours, investment corporations.

Number of respondents: 30 banking corporations; 53 investment corporations.

Small businesses are not affected.

General description of report: This information collection is mandatory (12 U.S.C. 602 and 625) and is given confidential treatment (5 U.S.C. 552(b)(4)).

Abstract: This report is filed quarterly by banking Edge corporations and investment (nonbanking) Edge corporations. This report comprises a balance sheet, income statement, and ten supporting schedules, and it parallels the Consolidated Reports of Condition and Income that commercial banks file. Except for examination reports, it provides the only financial data available for these corporations. The Federal Reserve uses the data collected on the FR 2886b to supervise Edge corporations, identify present and potential problems, and monitor and develop a better understanding of activities within the industry. Most Edge corporations are wholly owned by U.S. banks and are consolidated into the financial statements of their parent organizations.

Current Actions: The Federal Reserve has approved the proposed changes to the FR 2886b as of June 30, 2001, consistent with the changes, eliminations, and reductions in detail to the Consolidated Reports of Condition and Income (Call Report) (FFIEC 031; OMB No. 7100-0036) effective March 31, 2001, and June 30, 2001.

Discontinuation of the Following Report

Report title: Annual Survey of Eligible Bankers Acceptances.

Agency form number: FR 2006.

OMB control number: 7100-0055.

Frequency: Annual.

Reporters: U.S. commercial banks, U.S. branches and agencies of foreign banks, and Edge and agreement corporations with significant issuance of U.S dollar-denominated acceptances.

Annual reporting hours: 27 hours.

Estimated average hours per response: 0.65 hours.

Number of respondents: 41.

Small businesses are not affected.

General description of report: The Board's Legal Division has previously determined that the FR 2006 is authorized by law (12 U.S.C. 248(a), 625, and 3105(b)) and is voluntary. Individual respondent data are regarded as confidential under the Freedom of Information Act (5 U.S.C. 522(b)(4)).

Abstract: This voluntary survey provides detailed information on eligible U.S. dollar acceptances that are payable in the United States. The data have been used at the Board in constructing the monetary and credit aggregates, in constructing the domestic nonfinancial debt aggregate monitored by the Federal Open Market Committee (FOMC), and in calculating short- and intermediate-term business credit.

Current actions: The Federal Reserve is discontinuing the FR 2006 report. The usefulness of the report has declined in recent years due to three factors: (1) In December 1998 the Board stopped calculating L, the monetary aggregate that contained bankers acceptances (BAs); (2) Board staff has replaced the FR 2006 with the Consolidated Reports of Condition and Income as the source of BAs for calculating the debt aggregate; and (3) the relatively small size of the BA market at present has called into question the need for this survey. As a result, Board staff feels that estimates of BAs derived from the Call Report can be used in calculating short- and intermediate-term business credit.

Board of Governors of the Federal Reserve System, June 25, 2001.
Jennifer J. Johnson,
Secretary of the Board.

[FR Doc. 01-16377 Filed 6-28-01; 8:45 am]

BILLING CODE 6210-01-P